DEPARTMENT OF STATE

[Public Notice: 12240]

Notice of Public Meeting in Preparation for International Maritime Organization Council 130 Meeting, Assembly 33 Meeting, and Council 131 Meeting

The Department of State will conduct a public meeting at 10:00 a.m. on Wednesday, November 8, 2023, both in-person at Coast Guard Headquarters in Washington, DC, and via teleconference. The primary purpose of the meeting is to prepare for the 130th session of the International Maritime Organization's (IMO) Council (C 130) from November 21-24, 2023; the 33rd session of IMO Assembly (A 33) from November 27-December 6, 2023; and the 131st session of the IMO Council (C 131) on December 7, 2023, to be held concurrently in London, United Kingdom from Monday, November 21, 2023, to Thursday, December 7, 2023.

Members of the public may participate up to the capacity of the teleconference phone line, which can handle 500 participants or up to the seating capacity of the room if attending in person. The meeting location will be the United States Coast Guard Headquarters, Ray Evans Conference Room, and the teleconference line will be provided to those who RSVP. To RSVP, participants should contact the meeting coordinator, LT Emily Rowan, by email at Emily.K.Rowan@uscg.mil.LT. Rowan will provide access information for in-person and virtual attendance.

The agenda items to be considered at this meeting mirror those to be considered at Council 130, and include:

—Adoption of the agenda

—Report of the Secretary-General on credentials

—Rules of Procedure

—Strategy, planning and reform

—Resource Management

—Results-based budget for 2024-2025

—Enhancement of multilingualism

—IMO Member State Audit Scheme

—Reports of the Marine Environmental Protection Committee

—Report of the Legal Committee

—Report of the Facilitation Committee

—Report of the Technical Cooperation Committee

—Report of the Consultative Meeting of Contracting Parties to the London Convention 1972 and the Meeting of Contracting Parties to the 1996 Protocol to the London Convention

—Global maritime training institutions

—Report of the Council to the Assembly on the work of the Organization since the thirty-second regular session of the Assembly

—External relations

—Report on the status of the Convention and membership of the Organization

—Report on the status of conventions and other multilateral instruments in respect of which the Organization performs functions

—Appointment of the External Auditor

—Appreciation of the services of the Secretary-General

—Supplementary agenda items, if any

Please note: the IMO may, on short notice, adjust the C 130 agenda to accommodate the constraints associated with the meeting format. Any changes to the agenda will be reported to those who RSVP.

The agenda items to be considered at this meeting mirror those to be considered at Assembly 33, and include:

—Adoption of the agenda

—Rules of the President and the Vice-Presidents of the Assembly

—Election of the President and the Vice-Presidents of the Assembly

—Application of Article 61 of the IMO Convention—Report of the Council to the Assembly on any request by Members for waivers

—Establishment of the committees of the Assembly

—Consideration of the reports of the committees of the Assembly

—Report of the Council to the Assembly on the work of the Organization since the thirty-second regular session of the Assembly

—Strategy, planning and reform

—IMO Member State Audit Scheme

—IMO Convention

—Consideration of the reports and recommendations of the Maritime Safety Committee

—Consideration of the reports and recommendations of the Legal Committee

—Consideration of the reports and recommendations of the Marine Environment Protection Committee

—Consideration of the reports and recommendations of the Technical Cooperation Committee

—Consideration of the reports and recommendations of the Technical Cooperation Committee

—Consideration of the reports and recommendations of the Facilitation Committee

—Convention on the Prevention of Marine Pollution by Dumping of Wastes and Other Matter, 1972 and the 1996 Protocol thereto: report on the performance of Secretariat functions and other duties

—Resource management

—Global maritime training institutions

—External relations

—Enhancement of multilingualism

—Report on the status of the Convention and membership of the Organization

—Report on the status of conventions and other multilateral instruments in respect of which the Organization performs functions

—Election of Members of the Council, as provided for in Articles 16 and 17 of the IMO Convention

—Appointment of Members of the IMO Staff Pension Committee

—Appointment of the External Auditor

—Approval of the appointment of the Secretary-General

—Farewell to Mr. Lim

—Date and place of the thirty-fourth regular session of the Assembly

—Supplementary agenda items, if any

Please note: the IMO may, on short notice, adjust the A 33 agenda to accommodate the constraints associated with the meeting format. Any changes to the agenda will be reported to those who RSVP.

The agenda for Council 131 has not yet been published, but as the first Council meeting after the Assembly, traditionally include the following items:

—Adoption of the agenda

—Election of the Chairman and Vice-Chairman

—Date, place, and duration of the next session of Council

—Supplementary agenda items, if any

Please note: the IMO may, on short notice, adjust the C 131 agenda to accommodate the constraints associated with the meeting format. Any changes to the agenda will be reported to those who RSVP.

Those who plan to participate should contact the meeting coordinator, LT Emily Rowan, by email at Emily.K.Rowan@uscg.mil, or in writing at 2703 Martin Luther King Jr. Ave. SE, Stop 7509, Washington, DC 20593-7509, by November 1, 2023. Please note that, due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than October 25, 2023. Requests made after that date will be considered but might not be possible to fulfill.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2023-23260 Filed 10-19-23; 8:45 am]

BILLING CODE 4710-08-P